DEPARTMENT OF COMMERCE

International Trade Administration

[A-570-186, A-533-936]

Overhead Door Counterbalance Torsion Springs From the People's Republic of China and India: Postponement of Preliminary Determinations in the Less-Than-Fair-Value Investigations

AGENCY: Enforcement and Compliance, International Trade Administration, Department of Commerce.

DATES: Applicable March 11, 2025.

FOR FURTHER INFORMATION CONTACT: Jacob Keller at (202) 482-4849 (the People's Republic of China (China) and Seth Brown at (202) 482-0029 (India), AD/CVD Operations, Enforcement and Compliance, International Trade Administration, U.S. Department of Commerce, 1401 Constitution Avenue NW, Washington, DC 20230.

SUPPLEMENTARY INFORMATION:

Background

On November 18, 2024, the U.S. Department of Commerce (Commerce) initiated less-than-fair-value (LTFV) investigations of imports of overhead door counterbalance torsion springs (overhead door springs) from China and India.¹ Currently, the preliminary determinations are due no later than April 7, 2025.

¹ See Overhead Door Counterbalance Torsion Springs from the People's Republic of China and India: Initiation of Less-Than-Fair-Value Investigations, 89 FR 92895 (November 25, 2024).

Postponement of Preliminary Determinations

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On March 4, 2025, the petitioners ² submitted a timely request that Commerce postpone the preliminary determinations in these LTFV investigations.³ The petitioners requested postponement to provide Commerce with additional time to review and analyze questionnaire responses and accurately determine antidumping duty margins.⁴

² The petitioners are: IDC Group, Inc., Iowa Spring Manufacturing, Inc., and Service Spring Corp.

³ See Petitioners' Letter, “Petitioners' Request for Postponement of Preliminary Determinations,” dated March 4, 2025.

⁴ Id. at 2-4.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than May 27, 2025. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: March 5, 2025.
Christopher Abbott,
Deputy Assistant Secretary for Policy and Negotiations, performing the non-exclusive functions and duties of the Assistant Secretary for Enforcement and Compliance.

[FR Doc. 2025-03835 Filed 3-10-25; 8:45 am]

BILLING CODE 3510-DS-P